DEPARTMENT OF THE INTERIOR

Bureau of Land Management

[ID-210-1220-MA]

Notice of Continuation of Closure of Public Lands to Off-Highway Vehicles North of Pasadena Valley Road in Elmore County, ID

AGENCY: Bureau of Land Management, Interior.

ACTION: Notice of closure.

SUMMARY: Notice is hereby given that approximately 988 acres of public land north of the Pasadena Valley Road in Elmore County, Idaho, will remain closed to the use of motorized vehicles. The public land is located approximately two (2) miles east of Glenns Ferry, Idaho, known as the Paradise or Pasadena off-highway vehicle (OHV) area. The closure applies to all types of motor and off-highway vehicles with the exception of those authorized for fire fighting, law enforcement, access to private lands, administrative operations and/or other BLM authorized activities.

DATES: This order was originally put into effect in September of 2002, with a two year effective time frame that has now expired. The signing of this document will reinstate and continue the closure for an additional two (2) years. At that time, this closure order shall be reviewed and a determination made whether to reinstate, amend, modify, or change the order.

FOR FURTHER INFORMATION CONTACT: Max Yingst, Outdoor Recreation Planner, Jarbidge Field Office, Bureau of Land Management, 2620 Kimberly Road, Twin Falls, ID, 83301-7975, or call (208) 736-2362.

SUPPLEMENTARY INFORMATION: This order affects public lands in Elmore County, Idaho thus described:

Boise Meridian

T. 5 S., R. 10 E.,

Secs. 25, 26, and 27T.5S., R.11E., Secs. 30 and 31.

Discussion of the Emergency Closure: This extension of the emergency closure is necessary for the management of actions, activities, and public use on certain public lands which may have, or are having, adverse impacts on persons using public lands, on property, and on resources located on public lands until permanent management action can be taken.

The issues that have been occurring have primarily been related to safety concerns involving OHV's crossing and traveling on the Pasadena Valley Road. This safety issue has consumed a considerable amount of County, State, and BLM law enforcement staff time in assuring public safety along the road. The Elmore County Sheriff's Department has requested that this area be closed. Complaints, verbal and written, from the local residents have been received on a regular basis pertaining to safety, noise levels, and degradation of the slopes where hill climbing takes place.

During this closure period, public consultation will be implemented and a process for completing a management plan for the area will be developed. A supplemental rule could be implemented for permanent closure of the area.

The authorities for this action are 43 CFR 8341.2 and 43 CFR 8364.1. Any person who fails to comply with this closure is subject to citation or arrest and a fine up to $1,000.00 or imprisonment not to exceed 12 months or both. Such violations may also be subject to the enhanced fines provided by Title 18 U.S.C. 3571.

Maps of the closure area are enclosed and may be obtained by users, along with more detailed information, from the Jarbidge Field Office at 2620 Kimberly Road, Twin Falls, ID, 83301.

John Ash,
Jarbidge Field Office Manager, Acting Bureau of Land Management.

[FR Doc. 05-7121 Filed 4-8-05; 8:45 am]

BILLING CODE 4310-AG-P